DEPARTMENT OF TRANSPORTATION

Pipeline and Hazardous Materials Safety Administration

[Docket No.: PHMSA-2023-0014; Notice No. 2023-03]

Hazardous Materials: Public Meeting Notice for the 2024 Emergency Response Guidebook (ERG2024)

AGENCY: Pipeline and Hazardous Materials Safety Administration (PHMSA), Department of Transportation (DOT).

ACTION: Notice of public meeting.

SUMMARY: PHMSA's Office of Hazardous Materials Safety (OHMS) will hold a public meeting to solicit input on the development of the 2024 edition of the Emergency Response Guidebook (ERG2024). The meeting will take place virtually on Microsoft Teams on May 16, 2023.

DATES: The meeting will be held virtually on Microsoft Teams on May 16, 2023, from 1:00 p.m. to 4:00 p.m. EDT.

ADDRESSES: DOT requests that attendees pre-register for this meeting. The meeting will be hosted on Microsoft Teams and a conference call line will be provided upon registration by completing the form at https://www.phmsa.dot.gov/research-and-development/hazmat/rd-meetings-and-events. If you have technical difficulties, please contact the meeting organizer below.

FOR FURTHER INFORMATION CONTACT: Ryan Vierling or Peter Heitzmann, Office of Hazardous Materials Safety, Pipeline and Hazardous Materials Safety Administration, U.S. Department of Transportation, Washington, DC. Telephone: 202-366-4545 or 202-366-4900. Email: ryan.vierling@dot.gov or ERGComments@dot.gov.

SUPPLEMENTARY INFORMATION: PHMSA developed the United States version of the Emergency Response Guidebook (ERG) for use by emergency services personnel to provide guidance for initial response to hazardous materials transportation incidents. Since 1980, it has been PHMSA's goal that all public emergency response personnel (e.g., firefighters, police, and rescue squads) have free and immediate access to the ERG. To date, PHMSA has distributed more than 16.4 million copies of the ERG to emergency service agencies and developed free online resources and downloadable mobile applications to make the ERG more accessible. Since 1996, PHMSA, Transport Canada, and the Secretariat of Communication and Transport of Mexico have collaborated on development of the ERG, with interested parties from government and industry providing additional assistance, including Argentina's Chemical Information Center for Emergencies. ERG2024 will be published in English, French, and Spanish and will continue to serve as a valuable resource to help increase public safety by providing consistent emergency response procedures for hazardous materials transportation incidents throughout North America.

The meeting will include a discussion of the methodology used to determine the appropriate response protective distances for poisonous vapors resulting from spills involving dangerous goods considered toxic by inhalation in the 2020 Edition of the Emergency Response Guidebook “Green Pages” as requested by stakeholders. To pursue our objective of continually improving the ERG, PHMSA will solicit comments related to new methodologies and considerations for future editions of the ERG. Additionally, the meeting will include discussions on the outcomes of field experiments, ongoing research efforts to better understand environmental effects on airborne toxic gas concentrations, and updates to be published in the ERG2024.

DOT is committed to providing equal access for all Americans and ensuring that information is available in appropriate alternative formats to meet the requirements of persons who have a disability. If you require an alternative version of files provided or alternative accommodations, please contact PHMSA-Accessibility@dot.gov no later than May 2, 2023.

Signed in Washington, DC, on April 6, 2023.
William S. Schoonover,
Associate Administrator for Hazardous Materials Safety, Pipeline and Hazardous Materials Safety Administration.

[FR Doc. 2023-07619 Filed 4-11-23; 8:45 am]

BILLING CODE 4910-60-P